DEPARTMENT OF DEFENSE

Department of the Army; Corps of Engineers

Intent To Prepare a Programmatic Environmental Impact Statement for the Middle Rio Grande Endangered Species Act Collaborative Program

AGENCY: Army Corps of Engineers, DoD.

ACTION: Notice of intent.

SUMMARY: The U.S. Army Corps of Engineers (Corps) and other joint-lead agencies—the U.S. Bureau of Reclamation (Reclamation), Department of Interior; and the New Mexico Interstate Stream Commission (Commission), State of New Mexico—intend to prepare a Programmatic Environmental Impact Statement (PEIS) for the establishment of the Middle Rio Grande Endangered Species Act Collaborative Program (Program).

FOR FURTHER INFORMATION CONTACT: Mr. William DeRagon, U.S. Army Corps of Engineers, 4101 Jefferson Plaza, NE., Albuquerque, NM 87109, (505) 342-3358.

SUPPLEMENTARY INFORMATION: Within the Middle Rio Grande Basin in New Mexico the continuing demand on limited water supplies to meet irrigation, municipal, industrial, and ecological purposes has strained environmental resources. The U.S. Fish and Wildlife Service (USFWS) listed the Rio Grande silvery minnow (Hybognathus amarus) and the Southwestern Willow Flycatcher (Empidonax traillii extimus) as endangered under the Endangered Species Act (ESA) in 1994 and 1995, respectively. In February 2003, the USFWS designated critical habitat for the silvery minnow along the Rio Grande from Cochiti Dam to the headwaters of Elephant Butte Reservoir. Recovery plans for both species have been developed.

In 1999, governmental and non-governmental entities with management responsibility for resources in the Middle Rio Grande Basin, or an interest therein, formed the Middle Rio Grande ESA Workgroup to address ESA issues in a coordinated manner. Beginning in April 2002, representatives of the following entities have signed an Interim Memorandum of Understanding to work towards establishing the Middle Rio Grande ESA Collaborative Program: Reclamation, Corps, Commission, USFWS, U.S. Bureau of Indian Affairs, U.S. Forest Service Rocky Mountain Research Station, New Mexico Office of the Attorney General, New Mexico Lieutenant Governor's Office, New Mexico Department of Game and Fish, New Mexico Environment Department, New Mexico Department of Agriculture, New Mexico State University, University of New Mexico, Middle Rio Grande Conservancy District, City of Albuquerque, Alliance for the Rio Grande Heritage, Rio Grande Restoration, and the National Association of Industrial and Office Properties.

The objective of establishing and implementing the Program is to provide the framework for coordinated actions to enhance habitat, increase populations, and contribute to the recovery of the listed species within the Rio Grande Basin between the Colorado state line and the headwaters (elevation 4,450 feet) of Elephant Butte Reservoir. A principal goal of the Program is to implement creative and flexible options under the ESA so that existing, ongoing, and future water supply and water resource management activities and projects can continue to operate and receive necessary permits, licenses, funding, and other approvals.

The PEIS will address the establishment and governance of the Program, as well as anticipated activities such as scientific research, population monitoring, habitat restoration, fish passage at diversion structures, silvery minnow rescue and propagation, and water acquisition and management. The PEIS will present alternatives for these activities and evaluate their environmental, economic, and social effects. The environmental evaluation also will assess the potential effects that the proposed alternatives may have on Indian Trust Assets, and minority and low-income populations. the PEIS will address these actions on a programmatic basis; future activities implemented as a result of the Program will require project-specific compliance with the National Environmental Policy Act (NEPA) and other applicable laws and regulations prior to implementation.

Coordination is ongoing with public, private and tribal entities having jurisdiction or an interest in water operations in the Program area. In June 2003, the Corps, Reclamation, and the Commission, as lead agencies and on behalf of the cooperating entities, signed a Memorandum of Agreement to define the scope of the PEIS and to establish their roles and responsibilities relating to completing the PEIS in accordance with NEPA, ESA, and other laws and regulations. The joint lead agencies will seek and encourage public involvement throughout the process.

Public scoping meetings will be held in Albuquerque, Santa Fe, and Socorro, New Mexico, in July 2003. Specific information regarding location and times of these meetings will be published in local newspapers. The draft PEIS will be released for public review and comment in October 2003. Signing of the Records of Decision by the joint-lead agencies is expected in February 2004.

Dana R. Hurst,
Lieutenant Colonel, U.S. Army, District Engineer.

[FR Doc. 03-15576 Filed 6-19-03; 8:45 am]

BILLING CODE 3710-KK-M